DEPARTMENT OF TRANSPORTATION

Federal Railroad Administration

[Docket No. FRA-2021-0006-N-10]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before October 22, 2021.

ADDRESSES: Written comments and recommendations for the proposed ICR should be submitted on regulations.gov to the docket, Docket No. FRA-2021-0006. All comments received will be posted without change to the docket, including any personal information provided. Please refer to the assigned OMB control number in any correspondence submitted. FRA will summarize comments received in response to this notice in a subsequent notice and include them in its information collection submission to OMB for approval.

FOR FURTHER INFORMATION CONTACT: Ms. Hodan Wells, Information Collection Clearance Officer, at email: hodan.wells@dot.gov or telephone: (202) 493-0440, or Mr. John Purnell, Information Collection Clearance Officer at email: john.purnell@dot.gov or telephone: (202) 493-0500.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Railroad Locomotive Safety Standards and Event Recorders.

OMB Control Number: 2130-0004.

Abstract: FRA's locomotive safety standards (49 CFR part 229) require railroads to inspect, repair, and maintain locomotives, including their event recorders, to ensure they are safe and free of defects.

The data gathered from locomotive event recorders is used by the railroad industry and by railroad employees (locomotive engineers, train crews, dispatchers) to improve train handling and promote the safe and efficient operation of trains throughout the country. Locomotive event recorders also provide FRA and State railroad safety inspectors with verified data elements for use in their oversight responsibilities that show how trains are operated from lead locomotives.

Type of Request: Revision of a currently approved collection.

Affected Public: Businesses.

Form(s): FRA F 6180.49A.

Respondent Universe: 754 railroads.

Frequency of Submission: On occasion.

Reporting Burden:

CFR section 1 | Respondent universe | Total annual responses | Average time per responses | Total annual burden hours | Total cost equivalent 2
229.9—Movement of non-complying locomotives—Tagging to indicate “non-complying locomotive“ | 754 railroads | 1,307 tags | 1 minute | 21.79 hours | $1,566.48
229.15(a)(11)—Remote control locomotives—Tagging to indicate in remote control | 754 railroads | 349 tags | 1 minute | 5.82 hours | 418.40
229.20(c)—Operational requirements—Automatic notice to railroads each time locomotive is due for inspection or maintenance (Note: This requirement does not apply to daily inspections.) | 754 railroads | 21,000 automatic notifications | 1 second | 5.83 hours | 451.48
229.21(a)—Daily inspection—Except for multiple-unit (MU) operated locomotive | 754 railroads | 7,443,020 written inspection reports | 3 minutes (paper records) + 1 minute (electronic records) | 148,860.40 hours | 11,527,749.38
—(b) Written reports of MU locomotive inspections | 754 railroads | 1,300,000 written reports | 3 minutes | 65,000.00 hours | 4,672,850.00
229.23(d)-(g)—Periodic Inspection—Locomotive Inspection & Repair Record—Form FRA F 6180.49A | 718 railroads | 28,627 other than passenger locomotives | 15 minutes | 7,156.75 hours | 514,498.76
229.23(d)-(g)—Periodic Inspection—Locomotive Inspection & Repair Record—Form FRA F 6180.49A 3 | 36 railroads | 4,500 passenger locomotives | 15 minutes | 1,125.00 hours | 80,876.25
229.25(d)(2)—Data verification readout of event recorder | 754 railroads | 5,908 readout records and reports | 90 minutes | 8,862.00 hours | 686,273.28
229.46—Tagging locomotive with inoperative or ineffective automatic/independent brake that can only be used in trailing position | 754 railroads | 2,269 tags | 1 minute | 37.81 hours | 2,718.16
229.85—Marking of all doors, cover plates, or barriers having direct access to high voltage equipment with words “Danger High Voltage” or with word “Danger” | 754 railroads | 1,080 decals or markings | 1 minute | 18.00 hours | 1,078.02
229.123(b)(2)—Locomotives equipped with a pilot, snowplow & plate with clearance above 6 inches—Marking/stenciling with words “9-inch Maximum End Plate Height, Yard or Trail Service Only” | 754 railroads | 22 markings/stencils | 4 minutes | 1.44 hours | 104.96
229.303—Requests to FRA for on-track testing of products outside a facility | 754 railroads | 5 written requests | 1 hour | 5.00 hours | 387.20
229.307—Safety Analysis for each product subject to this subpart—Document establishing minimum requirements | 754 railroads | 3 safety analysis documents | 240 hours | 720.00 hours | 55,756.80
229.309—Safety critical changes to product subject to this subpart—Notice to FRA | 754 railroads | 5 notifications | 8 hours | 40.00 hours | 3,097.60
—(b) and (c) Report by product suppliers and private owners to railroads of any safety-critical changes to product | 3 manufacturers | 15 reports | 8 hours | 120.00 hours | 9,292.80
229.311(a)—Notice to FRA by railroad before placing product in service | 754 railroads | 3 notifications | 2 hours | 6.00 hours | 464.64
—(d) Railroad maintenance of data base of all safety relevant hazards encountered after product is placed in service | 754 railroads | 3 databases | 2 hours | 6.00 hours | 464.64
—(d)(1) Written report to FRA disclosing frequency of safety-relevant hazards for product exceeding threshold set forth in Safety Analysis | 754 railroads | 1 written report | 2 hours | 2.00 hours | 154.88
229.315(b)—Railroad maintenance of Operations and Maintenance Manual containing all documents related to installation, maintenance, repair, modification, & testing of a product subject to this part | 754 railroads | 3 filings of manuals | 1 minute | .05 hour | 3.87
—(c) Configuration management control plan | 754 railroads | 3 filings of revised plans | 1 minute | .05 hour | 3.87
229.317(a)—Training and qualification program—Establishment and implementation of training qualification program for products subject to this subpart | 754 railroads | 90 filings of new or revised training programs | 1 minute | 1.50 hours | 116.16
—(b) Employees trained under RR program | 754 railroads | 10,000 trained employees' records | 1 minute | 166.67 hours | 12,906.92
—(f) Periodic refresher training of employees | 754 railroads | 1,000 re-trained employees' records | 1 minute | 16.67 hours | 1,290.92
—(g) RR regular and periodic evaluation of effectiveness of its training program | 754 railroads | 90 evaluations | 2 hours | 3.00 hours | 232.32
—(h) RR record of individuals designated as qualified under this section | 754 railroads | 10,000 electronic records | 1 minute | 166.67 hours | 12,906.92
Total 4 | 754 railroads | 8,829,303 responses | N/A | 232,348 hours | 17,585,665

Total Estimated Annual Responses: 8,829,303.

¹ The current inventory exhibits a total burden of 3,815,751 hours while the total burden of this notice is 232,348 hours. As part of its review of this ICR renewal, FRA determined many of the previous estimates were preliminary, outdated, or duplicative. Moreover, FRA removed locomotive safety requirements outside the scope of the PRA, thus decreasing the total estimates accordingly in this notice.

² The dollar equivalent cost is derived from the Surface Transportation Board's 2020 Full Year Wage A&B data series using the appropriate employee group hourly wage rate that includes a 75-percent overhead charge.

³ FRA is proposing to create a new form for use by passenger railroads, Form F 6180-49AP (Passenger Locomotive Inspection and Repair Record), under OMB Control Number 2130-0035. Once the new form is approved, FRA will move this under the proposed 49 CFR 229.22 of OMB 2130-0035.

⁴ Totals may not add due to rounding.

Total Estimated Annual Burden: 232,348 hours.

Total Estimated Annual Burden Hour Dollar Cost Equivalent: $17,585,665.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Acting Chief Counsel.

[FR Doc. 2021-17982 Filed 8-20-21; 8:45 am]

BILLING CODE 4910-06-P